ENVIRONMENTAL PROTECTION AGENCY

40 CFR Part 52

[FL-88 -200227(b); FRL-7486-8]

Florida: Revision to Jacksonville, Florida Ozone Air Quality Maintenance Plan

AGENCY: Environmental Protection Agency (EPA).

ACTION: Proposed rule.

SUMMARY: The EPA is proposing to approve the State Implementation Plan (SIP) revision submitted by the Florida Department of Environmental Protection (DEP) on November 28, 2001, for the Duval County 1-hour ozone maintenance plan. More specifically, EPA is proposing to approve the state's new motor vehicle emissions budgets (MVEB) for volatile organic compounds (VOCs) and nitrogen oxides (NOX) for 2005. This submittal updates the maintenance plan by establishing new transportation conformity MVEB for the year 2005, for use by the Metropolitan Planning Organization (MPO). The MVEB represent the VOCs and the NOX emissions currently projected by the MPO for the year 2005, plus a small allocation from the areas “safety margin” for each pollutant to accommodate any further refinements that the MPO may need to make these projections. This allocation will still maintain the total emissions for the area at or below the attainment level for this maintenance area. In the Final Rules Section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before May 27, 2003.

ADDRESSES: All comments should be addressed to: Lynorae Benjamin at the EPA, Region 4 Air Planning Branch, 61 Forsyth Street, SW., Atlanta, Georgia 30303-8960.

Copies of the State submittal(s) are available at the following addresses for inspection during normal business hours at the following locations. The interested persons wanting to examine these documents should make an appointment with appropriated office at least 24 hours before visiting day. Reference file FL-88 . The Region 4 office may have additional background documents not available at the other locations.

Environmental Protection Agency, Region 4, Air Planning Branch, 61 Forsyth Street, SW., Atlanta, Georgia 30303-8960. (Lynorae Benjamin, (404) 562-9040).

Florida Department of Environmental Protection, Air Resource Management Division, Twin Towers Office Building, 2600 Blair Stone Road, Tallahassee, Florida 32399-2400.

FOR FURTHER INFORMATION CONTACT: Lynorae Benjamin, Air Quality Modeling and Transportation Section; Air Planning Branch; Air, Pesticides, and Toxics Management Division; Region 4 Environmental Protection Agency, Atlanta Federal Center, 61 Forsyth Street, SW., Atlanta, Georgia 30303-8960. Ms. Benjamin's telephone number is (404) 562-9040. She can also be reached via electronic mail at benjamin.lynorae@epa.gov.

SUPPLEMENTARY INFORMATION: For additional information see the direct final rule which is published in the Rules Section of this Federal Register.

Dated: April 15, 2003.
A. Stanley Meiburg,
Acting Regional Administrator, Region 4.

[FR Doc. 03-10064 Filed 4-23-03; 8:45 am]

BILLING CODE 6560-50-P